DEPARTMENT OF ENERGY

Federal Energy Regulatory Commission

[14697-000]

Advanced Hydropower, Inc.; Notice of Preliminary Permit Application Accepted for Filing and Soliciting Comments, Motions To Intervene, and Competing Applications

On August 3, 2015, Advanced Hydropower, Inc. filed an application for a preliminary permit, pursuant to section 4(f) of the Federal Power Act (FPA), proposing to study the feasibility of the McNary Dam Advanced Hydropower Project (McNary Dam Project or project) to be located at U.S. Corps of Engineers' McNary Dam near Plymouth in Benton County, Washington and Umatilla in Umatilla County, Oregon. The sole purpose of a preliminary permit, if issued, is to grant the permit holder priority to file a license application during the permit term. A preliminary permit does not authorize the permit holder to perform any land-disturbing activities or otherwise enter upon lands or waters owned by others without the owners' express permission.

The proposed project would utilize flows at the existing McNary Dam, and would consist of the following new features: (1) A 52-foot-wide, 40-foot-high gated intake located on the upstream side of McNary Dam; (2) a 32-foot-wide, 34-foot-high, 234-foot-long concrete penstock installed through McNary Dam; (3) a 34-megawatt vertical shaft Alden turbine; (4) a draft tube discharging flows to the existing McNary Dam tailrace; (5) a 1.24-mile-long, 13.8- or 23-kilovolt transmission line interconnecting with the existing McNary Dam switchyard; and (6) appurtenant facilities. The estimated annual generation of the McNary Dam Project would be 148.92 gigawatt-hours.

Applicant Contact: Mr. Kurt Ross, Advanced Hydropower, Inc., 925 Fairgrounds Road, Goldendale, Washington 98620; phone: (509) 773-5650.

FERC Contact: Sean O'Neill; phone: (202) 502-6462.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14697-000.

More information about this project, including a copy of the application, can be viewed or printed on the “eLibrary” link of Commission's Web site at http://www.ferc.gov/docs-filing/elibrary.asp. Enter the docket number (P-14697) in the docket number field to access the document. For assistance, contact FERC Online Support.

Dated: December 10, 2015.
Nathaniel J. Davis, Sr.,
Deputy Secretary.

[FR Doc. 2015-31612 Filed 12-15-15; 8:45 am]

BILLING CODE 6717-01-P